DEPARTMENT OF TRANSPORTATION

Federal Aviation Administration

14 CFR Part 71

[Docket No. FAA-2009-0677; Airspace Docket No. 09-AGL-17]

Amendment of Class E Airspace; Mankato, MN

AGENCY: Federal Aviation Administration (FAA), DOT.

ACTION: Final rule.

SUMMARY: This action amends Class E airspace at Mankato, MN. Additional controlled airspace is necessary to accommodate Area Navigation (RNAV) Standard Instrument Approach Procedures (SIAP) at Mankato Regional Airport, Mankato, MN. The FAA is taking this action to enhance the safety and management of Instrument Flight Rule (IFR) operations at Mankato Regional Airport.

DATES: Effective 0901 UTC, February 11, 2010. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On September 3, 2009, the FAA published in the Federal Register a notice of proposed rulemaking to amend Class E airspace at Mankato, MN, reconfiguring controlled airspace at Mankato Regional Airport, Mankato, MN. (74 FR 45574, Docket No. FAA-2009-0677). Interested parties were invited to participate in this rulemaking effort by submitting written comments on the proposal to the FAA. No comments were received. Class E airspace designations are published in paragraph 6005 of FAA Order 7400.9T signed August 27, 2009, and effective September 15, 2009, which is incorporated by reference in 14 CFR Part 71.1. The Class E airspace designations listed in this document will be published subsequently in the Order.

The Rule

This action amends Title 14 Code of Federal Regulations (14 CFR) Part 71 by amending Class E airspace at Mankato, MN, adding additional controlled airspace extending upward from 700 feet above the surface for SIAPs at Mankato Regional Airport, Mankato, MN, for the safety and management of IFR operations.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Mankato Regional Airport, Mankato, MN.

List of Subjects in 14 CFR Part 71

Airspace, Incorporation by reference, Navigation (air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9T, Airspace Designations and Reporting Points, signed August 27, 2009, and effective September 15, 2009:

Paragraph 6002 Class E Airspace designated as surface areas.

* * * * *

AGL MN E2 Mankato, MN [Amended]

Mankato Regional Airport, MN

(Lat. 44°13′22″ N., long. 93°55′10″ W.)

Mankato VOR/DME

(Lat. 44°13′12″ N., long. 93°54′45″ W.)

Within a 4.2-mile radius of Mankato Regional Airport and within 1.8 miles each side of the Mankato VOR/DME 167° radial extending from the 4.2-mile radius to 7 miles south of the VOR/DME; and within 2.7 miles each side of the Mankato VOR/DME 326° radial extending from the 4.2-mile radius to 7 miles northwest of the VOR/DME. This Class E airspace is effective during the specific dates and times established in advance by a Notice to Airmen. The effective date and time will thereafter be continuously published in the Airport/Facility Directory.

* * * * *

Paragraph 6005 Class E Airspace areas extending upward from 700 feet or more above the surface of the earth.

* * * * *

AGL MN E5 Mankato, MN [Amended]

Mankato Regional Airport, MN

(Lat. 44°13′22″ N., long. 93°55′10″ W.)

Immanuel-St. Joseph's Hospital, MN

Point In Space Coordinates

(Lat. 44°09′48″ N., long. 93°57′40″ W)

That airspace extending upward from 700 feet above the surface within a 7-mile radius of Mankato Regional Airport, and within 2 miles each side of the 047° bearing from the airport extending from the 7-mile radius to 8 miles northeast of the airport; and within 4 miles each side of the 020° bearing from the airport extending from the 7-mile radius to 11 miles north of the airport; and within a 6-mile radius of the point in space serving Immanuel-St. Joseph's Hospital.

* * * * *

Issued in Fort Worth, Texas, on October 30, 2009.
Anthony D. Roetzel,
Manager, Operations Support Group, ATO Central Service Center.

[FR Doc. E9-27514 Filed 11-17-09; 8:45 am]

BILLING CODE 4910-13-P